DEPARTMENT OF ENERGY

Agency Information Collection Extension

AGENCY: National Nuclear Security Administration, U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before July 12, 2024. If you anticipate that you will be submitting comments but find it difficult to do so within the period of time allowed by this notice, please advise the DOE Desk Officer at OMB of your intention to make a submission as soon as possible. The Desk Officer may be telephoned at 202-395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: For other questions, contact Laura Fellow, Foreign Affairs Specialist, by mail at Office of Nonproliferation and Arms Control, National Nuclear Security Administration, U.S. Department of Energy, 1000 Independence Avenue SW, Washington, DC 20585, or by fax at (865) 203-3946 or by email at laura.fellow@nnsa.doe.gov. Due to potential delays in DOE's receipt and processing of mail sent through the U.S. Postal Service, DOE encourages responders to submit comments electronically to ensure timely receipt.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5173;

(2) Information Collection Request Titled: The American Assured Fuel Supply Program;

(3) Type of Review: Extension;

(4) Purpose: DOE created the American Assured Fuel Supply (AFS), a reserve of low enriched uranium (LEU) to serve as backup fuel supply for foreign recipients to be supplied through U.S. persons or for domestic recipients in the case of supply disruptions in the nuclear fuel market. This effort supports the United States Government's nuclear nonproliferation objectives by supporting civilian nuclear energy development while minimizing proliferation risks. This collection of information in the event of supply disruption is necessary for DOE to identify if applicants meet basic requirements to access the AAFS and implement this important nonproliferation initiative.

(5) Annual Estimated Number of Respondents: 10;

(6) Annual Estimated Number of Total Responses: 10;

(7) Annual Estimated Number of Burden Hours: 80;

(8) Annual Estimated Reporting and Recordkeeping Cost Burden: $9,058.

Statutory Authority: Atomic Energy Act of 1954; Nuclear Nonproliferation Act of 1978.

Signing Authority

This document of the Department of Energy was signed on June 6, 2024, by Melissa Mann, Associate Deputy Administrator, Office of Nonproliferation and Arms Control, National Nuclear Security Administration, Department of Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 7, 2024.
Treena V. Garrett,
Federal Register Liaison Officer, U.S. Department of Energy.

[FR Doc. 2024-12821 Filed 6-11-24; 8:45 am]

BILLING CODE 6450-01-P